DEPARTMENT OF TRANSPORTATION

Federal Railroad Administration

[Docket No. FRA-2010-0060]

Norfolk Southern Railway's Request To Operate During a Temporary Outage of Its Positive Train Control System; Withdrawal of Filing and Notice

AGENCY: Federal Railroad Administration (FRA), Department of Transportation (DOT).

ACTION: Notice; withdrawal.

SUMMARY: On September 1, 2023, the Federal Railroad Administration (FRA) published a notice in the Federal Register announcing the availability of the Norfolk Southern Railway's (NS) request for amendment (RFA), dated August 28, 2023, to its FRA-certified positive train control (PTC) system. This document withdraws that notice, FR Doc. 2023-18996. On August 30, 2023, NS withdrew its RFA.

DATES: As of September 6, 2023, FR Doc. 2023-18996, published on September 1, 2023, is withdrawn.

FOR FURTHER INFORMATION CONTACT: For further information, please contact Gabe Neal, Staff Director, Signal, Train Control, and Crossings Division, telephone: 816-516-7168, email: Gabe.Neal@dot.gov.

SUPPLEMENTARY INFORMATION: FR Doc. 2023-18996, published on September 1, 2023, is withdrawn by this notice.

Issued in Washington, DC.
Carolyn R. Hayward-Williams,
Director, Office of Railroad Systems and Technology.

[FR Doc. 2023-19186 Filed 9-5-23; 8:45 am]

BILLING CODE 4910-06-P